ENVIRONMENTAL PROTECTION AGENCY

40 CFR Part 60

[EPA-HQ-OAR-2016-0442; FRL-9971-03-OAR]

RIN 2060-AS92

National Emission Standards for Hazardous Air Pollutants From the Portland Cement Manufacturing Industry; Residual Risk and Technology Review

AGENCY: Environmental Protection Agency (EPA).

ACTION: Proposed rule; notice of data availability.

SUMMARY: The Environmental Protection Agency (EPA) is issuing this notice of data availability (NODA) in support of the proposed rule titled “National Emission Standards for Hazardous Air Pollutants From the Portland Cement Manufacturing Industry; Residual Risk and Technology Review,” which was published on September 21, 2017. In this document, the EPA is soliciting public comment on information added to the docket (EPA-HQ-OAR-2016-0442) on November 3, 2017.

DATES: Comments must be received on or before December 4, 2017.

ADDRESSES: Submit your comments, identified by Docket ID No. EPA-HQ-OAR-2016-0442, at https://www.regulations.gov. Follow the online instructions for submitting comments. Once submitted, comments cannot be edited or removed from Regulations.gov. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e., on the Web, cloud, or other file sharing system). For additional submission methods, the full EPA public comment policy, information about CBI or multimedia submissions, and general guidance on making effective comments, please visit https://www2.epa.gov/dockets/commenting-epa-dockets.

FOR FURTHER INFORMATION CONTACT: Mr. Brian Storey, Sector Policies and Programs Division (D243-04), Office of Air Quality Planning and Standards, U.S. Environmental Protection Agency, Research Triangle Park, North Carolina 27711; telephone number: (919) 541-1103; fax number: (919) 541-4991; and email address: storey.brian@epa.gov.

SUPPLEMENTARY INFORMATION: Organization of This Document. The information presented in this document is organized as follows:

I. Background

II. Purpose of the NODA

I. Background

On September 21, 2017, the EPA proposed amendments to the National Emission Standards for Hazardous Air Pollutants From the Portland Cement Manufacturing Industry to address the results of the residual risk and technology review (RTR) in accordance with section 112 of the Clean Air Act (CAA). The proposed rule indicated that the EPA found risks due to emissions of air toxics to be acceptable from this source category, and identified no cost-effective controls under the technology review to achieve further emissions reductions. In addition, the proposed rule included amendments to correct and clarify rule testing and monitoring provisions. In support of the proposed rule, the EPA posted over 160 documents to the docket to allow the public to provide comment on the rule and on documents used to develop the rule, in accordance with section 307(d) of the CAA. The subject matter of these docketed items included various correspondence with stakeholders, summary of meeting minutes, and technical memoranda related to the risk assessment and technology review process.

II. Purpose of the NODA

On November 1, 2017, the EPA became aware that two memoranda prepared to support the September 21, 2017, proposed rule were inadvertently omitted from the docket. The subject of the two memoranda are “Development of the RTR Risk Modeling Dataset for the Portland Cement Manufacturing Source Category,” and “Technology Review for the Portland Cement Production Source Category.”

The purpose of the memorandum with the subject title of “Development of the RTR Risk Modeling Dataset for the Portland Cement Manufacturing Source Category” is to document the technical approach and rationale used to develop the risk modeling input data used to perform the residual risk assessment, pursuant to section 112(f) of the CAA. It includes discussions of the methods used to develop a list of facilities subject to the source category; the development of actual, acute, and allowable emissions datasets; and discussions of how stack parameter data and stack locations were derived. The memorandum was actually included in the docket as Appendix 1 of the document, “Residual Risk Assessment for the Portland Cement Manufacturing Source Category in Support of the September 2017 Risk and Technology Review Proposed Rule.” This document was posted to the docket prior to publication of the proposed rule as Docket Item No. EPA-HQ-OAR-2016-0442-0153. However, we also intended to include this memorandum as a stand-alone document.

The purpose of the memorandum with the subject title of “Technology Review for the Portland Cement Production Source Category” is to provide a summary of the methods used to determine what, if any, new developments in practices, processes, and control technologies exist for the Portland Cement Manufacturing source category to support our proposed determination regarding whether revisions to the rule are warranted under section 112(d)(6) of the CAA. The information provided by this memorandum was summarized in the preamble of the September 21, 2017, proposed rule.

The EPA recognizes the importance of these two documents, and posted both documents to the docket on November 3, 2017. The docket item numbers are EPA-HQ-OAR-2016-0442-0188 for “Development of the RTR Risk Modeling Dataset for the Portland Cement Manufacturing Source Category” and EPA-HQ-OAR-2016-0442-0189 for “Technology Review for the Portland Cement Production Source Category.”

We are issuing this NODA to provide notice and ensure that parties have an opportunity to submit comments on these documents for a period of 30 days after their insertion in the docket. Although the public comment period for the proposed rule is scheduled to close on November 21, 2017, the public will be allowed to submit their comments, as well as provide comments on the proposed conclusions the EPA reached when it relied on these documents to propose the RTR rulemaking, for a period of 30 days, as required by the CAA. The comment period for the two aforementioned documents added to the docket was opened on November 3, 2017, and will close on December 4, 2017.

Dated: November 14, 2017.
Stephen Page,
Director, Office of Air Quality Planning and Standards.

[FR Doc. 2017-25169 Filed 11-20-17; 8:45 am]

BILLING CODE 6560-50-P